DEPARTMENT OF TRANSPORTATION

Federal Aviation Administration

Aircraft Certification Policy Notice

AGENCY: Federal Aviation Administration (DOT).

ACTION: Notice of availability and request for public comment.

SUMMARY: This notice announces the availability of and requests comments on the issuance of a proposed Certification Policy Notice for approving Complex Supplemental Type Certificates (STC). The proposed Certification Policy Notice introduces a new classification of STCs, and instructs Aircraft Certification Office engineers, STC applicants, and STC installers how to manage STCs classified as complex.

DATES: Identify comments as Certification Policy Complex STC and they must arrive by February 12, 2004.

ADDRESSES: Send all comments on the proposed Certification Policy Notice to: Federal Aviation Administration, Aircraft Certification Service, Aircraft Engineering Division, Room 815, 800 Independence Avenue, SW., Washington, DC 20591. ATTN: Stephen (Steve) Flanagan, AIR-110. Or, deliver comments to: Federal Aviation Administration, Room 815, 800 Independence Avenue, SW., Washington, DC 20591.

FOR FURTHER INFORMATION CONTACT: Stephen (Steve) Flanagan, Aerospace Engineer, Federal Aviation Administration, Aircraft Certification Service, Aircraft Engineering Division, Certification Procedures Branch, AIR-110, Room 815, 800 Independence Avenue, SW., Washington, DC 20591, Telephone (202) 267-3549, FAX (202) 267-5340. E-mail steve.flanagan@faa.gov.

SUPPLEMENTARY INFORMATION:

Comments Invited

You may comment on the proposed Certification Policy Notice listed in this notice by sending such written data, views, or arguments to the above listed address. You may also examine comments received on the proposed Certification Policy Notice, before and after the comment closing date, in Room 815, FAA Headquarters Building, 800 Independence Avenue, SW., Washington, DC 20591, weekdays except Federal holidays, between 8:30 a.m. and 4:30 p.m. The Director of the Aircraft Certification Service will consider all communications received by the closing date before issuing the final Certification Policy Notice.

Background

We typically issue STCs that permit installation on any aircraft of a specific type and model designation. Aircraft compatibility is addressed by the following limitation: “The installer is responsible for determining the compatibility of this STC with other previously approved modifications.” Nevertheless there have been installations made on inappropriate aircraft. These inappropriate installations could have been prevented if STC approvals were restricted to a specified baseline aircraft configuration that includes details of the STC physical and functional interfaces with the prototype aircraft.

Applicant's installation drawings or other installation instructions have not always been detailed enough for accurate replication of the design. This is especially true when follow-on STC installations occur at facilities other than that used by the STC holder for the prototype installation.

The STC certification process does not adequately address how to evaluate the compatibility of an STC with other previously installed STCs, major alterations or repairs. We need a more rigorous compatibility evaluation for certain STCs. This proposed policy ensures that the modified aircraft will be airworthy.

How To Get Copies

You may get a copy of the proposed Certification Policy Notice via the Internet at, http://www.faa.gov/certification/aircraft/notice.htm, or by contacting the person listed in the section titled FOR FURTHER INFORMATION CONTACT.

Issued in Washington, DC, on December 8, 2003.
David W. Hempe,
Manager, Aircraft Engineering Division, Aircraft Certification Service.

[FR Doc. 03-30742 Filed 12-11-03; 8:45 am]

BILLING CODE 4910-13-M